DEPARTMENT OF DEFENSE

Office of the Secretary

[Transmittal No. 12-64]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 12-64 with attached transmittal, policy justification, and Sensitivity of Technology.

Dated: November 19, 2012.
Aaron Siegel,
Alternate OSD Federal Register Liaison Officer, Department of Defense.

Transmittal No. 12-64

Notice of Proposed Issuance of Letter of Offer Pursuant to Section 36(b)(1) of the Arms Export Control Act, as amended

(i) Prospective Purchaser: Oman

(ii) Total Estimated Value:

Major Defense Equipment * | $ 90 million
Other | $ 6 million
TOTAL | $ 96 million

(iii) Description and Quantity or Quantities of Articles or Services under Consideration for Purchase: 400 Javelin Guided Missiles, Javelin Weapon Effects Simulator (JAVWES), containers, spare and repair parts, support equipment, personnel training and training equipment, publications and technical documentation, U.S. Government and contractor representative logistics and technical support services, and other related elements of logistics and program support.

(iv) Military Department: Army (UKB)

(v) Prior Related Cases, if any: FMS case UIW, 9 November 2007—$95M

(vi) Sales Commission, Fee, etc., Paid, Offered, or Agreed to be Paid: None

(vii) Sensitivity of Technology Contained in the Defense Article or Defense Services Proposed to be Sold: See Annex attached

(viii) Date Report Delivered to Congress: 15 Nov 12

* as defined in Section 47(6) of the Arms Export Control Act.

POLICY JUSTIFICATION

Oman—Javelin Missile

The Sultanate of Oman has requested a possible sale of 400 Javelin Guided Missiles, Javelin Weapon Effects Simulator (JAVWES), containers, spare and repair parts, support equipment, personnel training and training equipment, publications and technical documentation, U.S. Government and contractor representative logistics and technical support services, and other related elements of logistics and program support. The total estimated cost is $96 million.

This proposed sale will contribute to the foreign policy and national security of the United States by helping to improve the security of a friendly country that has been, and continues to be, an important force for political and economic progress in the Middle East.

The proposed sale of the JAVELIN Anti-Tank Weapon System will improve Oman's capability to meet current and future threats and provide greater security for its critical oil and natural gas infrastructure. Oman will use the enhanced capability to strengthen its homeland defense. Oman will have no difficulty absorbing these missiles into its armed forces.

The proposed sale of this equipment and support will not alter the basic military balance in the region.

The principal contractors will be Raytheon/Lockheed Martin Javelin Joint Venture in Orlando, Florida and Tucson, Arizona. There are no known offset agreements proposed in connection with this potential sale.

Implementation of this proposed sale will not require the assignment of any additional U.S. Government or contractor representatives to Oman.

There will be no adverse impact on U.S. defense readiness as a result of this proposed sale.

Transmittal No. 12-64

Notice of Proposed Issuance of Letter of Offer Pursuant to Section 36(b)(1) of the Arms Export Control Act

Annex

Item No. vii

(vii) Sensitivity of Technology:

1. The Javelin Weapon System is a medium-range, man portable, shoulder-launched, fire and forget, anti-tank system for infantry, scouts, and combat engineers. It may also be mounted on a variety of platforms to include vehicles and watercraft. The system weighs 49.5 pounds and has a maximum range in excess of 2,500 meters. The system is highly lethal against tanks and other systems with conventional and reactive armors. The system possesses a secondary capability against bunkers.

2. Javelin's key technical feature is the use of fire-and-forget technology which allows the gunner to fire and immediately relocate or take cover. Additional special features are the top attack and/or direct fire modes, an advanced tandem warhead and imaging infrared seeker, target lock-on before launch, and soft launch from enclosures or covered fighting positions. The Javelin missile also has a minimum smoke motor thus decreasing its detection on the battlefield. The Javelin Training System consists of the following training devices: the missile simulation round, the basic skills trainer and the field tactical trainer, JAVWES, and tripod.

3. The Javelin Weapon System is comprised of two major tactical components, which are a reusable Command Launch Unit (CLU) and a round contained in a disposable launch tube assembly. The CLU incorporates an integrated day-night sight that provides a target engagement capability in adverse weather and countermeasure environments. The CLU may also be used in a stand-alone mode for battlefield surveillance and target detection. The CLU's thermal sight is a second generation Forward-Looking Infrared (FLIR) sensor operating in the 8-10 micron wavelength and has a 240 X 2 scanning array with a Dewar-coolant unit. To facilitate initial loading and subsequent updating of software, all on-board missile software is uploaded via the CLU after mating and prior to launch.

4. The missile is autonomously guided to the target using an imaging infrared seeker and adaptive correlation tracking algorithms. This allows the gunner to take cover or reload and engage another target after firing a missile. The missile contains an infrared seeker with a 64 x 64 element staring Mercury-Cadmium-Telluride (HgCdTE) Focal Plane Array (FPA) operating in the 8-10 micron wavelength. The missile has an advanced tandem warhead and can be used in either the top attack or direct fire modes (for targets undercover). An onboard flight computer guides the missile to the selected target. The missile is designed as a “wooden round” thus requiring no maintenance.

5. The Javelin Missile System hardware and the documentation are unclassified. The missile software which resides in the CLU is considered sensitive. The sensitivity is primarily in the software programs which instruct the system how to operate in the presence of countermeasures.

6. If a technologically advanced adversary were to obtain knowledge of the specific hardware and software elements, the information could be used to develop countermeasures that might reduce weapon system effectiveness or be used in the development of a system with similar or advanced capabilities.

[FR Doc. 2012-28418 Filed 11-21-12; 8:45 am]

BILLING CODE 5001-06-P